NUCLEAR REGULATORY COMMISSION

[NRC-2019-0058]

Biweekly Notice; Applications and Amendments To Facility Operating Licenses and Combined Licenses Involving No Significant Hazards Considerations

AGENCY: Nuclear Regulatory Commission.

ACTION: Biweekly notice.

SUMMARY: Pursuant to the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from January 29, 2019, to February 11, 2019. The last biweekly notice was published on February 12, 2019.

DATES: Comments must be filed by March 28, 2019. A request for a hearing must be filed by April 29, 2019. Comments received after this date will be considered if it is practical to do so, but the Commission is able to ensure consideration only for comments received before this date.

ADDRESSES: You may submit comments by any of the following methods:

• Federal Rulemaking Website: Go to http://www.regulations.gov and search for Docket ID INSERT: NRC-2019-0058. Address questions about Docket IDs in Regulations.gov to Krupskaya Castellon; telephone: 301-287-9221; email: Krupskaya.Castellon@nrc.gov. For technical questions, contact the individual(s) listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Lynn Ronewicz, Office of Nuclear Reactor Regulation, U.S. Nuclear Regulatory Commission, Washington DC 20555-0001; telephone: 301-415-1927, email: Lynn.Ronewicz@nrc.gov.

SUPPLEMENTARY INFORMATION:

I. Obtaining Information and Submitting Comments

A. Obtaining Information

Please refer to Docket ID INSERT: NRC-2019-0058, facility name, unit number(s), plant docket number, application date, and subject when contacting the NRC about the availability of information for this action. You may obtain publicly-available information related to this action by any of the following methods:

• Federal Rulemaking Website: Go to http://www.regulations.gov and search for Docket ID INSERT: NRC-2019-0058.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document

• NRC's PDR: You may examine and purchase copies of public documents at the NRC's PDR, Room O1-F21, One White Flint North, 11555 Rockville Pike, Rockville, Maryland 20852.

B. Submitting Comments

Please include Docket ID NRC-2019-0058, facility name, unit number(s), plant docket number, application date, and subject in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

Pursuant to Section 189a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

III. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at http://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at http://www.nrc.gov/site-help/e-submittals/getting-started.html. Once a participant has obtained a digital ID certificate and a docket has been created, the participant can then submit adjudicatory documents. Submissions must be in Portable Document Format (PDF). Additional guidance on PDF submissions is available on the NRC's public website at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click “Cancel” when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Duke Energy Progress, LLC, Docket Nos. 50-325 and 50-324, Brunswick Steam Electric Plant, Units 1 and 2, Brunswick County, North Carolina

Date of amendment request: December 14, 2018. A publicly-available version is in ADAMS under Accession No. ML18353A951.

Description of amendment request: The amendments would modify requirements for repetitive verification of the status of locked, sealed, or secured components to allow the verification to be done by use of administrative means consistent with Technical Specifications Task Force (TSTF) Traveler 269, Revision 2, “Allow Administrative Means of Position Verification for Locked or Sealed Valves.”

Basis for proposed no significant hazards consideration determination: As required by 10 CFR 50.91(a), the licensee has provided its analysis of the issue of no significant hazards consideration, which is presented below:

1. Does the proposed change involve a significant increase in the probability or consequences of an accident previously evaluated?

Response: No.

The proposed change modifies Technical Specification (TS) 3.6.1.3, “Primary Containment Isolation Valves (PCIVs)” and TS 3.6.4.2, “Secondary Containment Isolation Dampers (SCIDs).” These specifications require penetration flow paths with inoperable isolation devices be isolated and periodically verified to be isolated. Consistent with TSTF-269-A, Revision 2, notes are proposed to be added to TS 3.6.1.3, Required Actions A.2 and C.2, and TS 3.6.4.2, Required Action A.2, to allow isolation devices that are locked, sealed, or otherwise secured to be verified using administrative means.

The proposed change does not affect any plant equipment, test methods, or plant operation, and is not an initiator of any analyzed accident sequence. The inoperable containment penetrations will continue to be isolated, and hence perform their isolation function. Operation in accordance with the proposed TSs will ensure that all analyzed accidents will continue to be mitigated as previously analyzed. Therefore, the proposed change does not involve a significant increase in the probability or consequences of an accident previously evaluated.

2. Does the proposed change create the possibility of a new or different kind of accident from any accident previously evaluated?

Response: No.

The proposed change does not involve a physical alteration to the plant (i.e., no new or different type of equipment will be installed) or a change to the methods governing normal plant operation. Furthermore, the change does not alter the assumptions made in the safety analysis. Therefore, the proposed change does not create the possibility of a new or different kind of accident from any accident previously evaluated.

3. Does the proposed change involve a significant reduction in a margin of safety?

Response: No.

The proposed change will not affect operation of plant equipment or the function of any equipment assumed in the accident analysis. Affected containment penetrations will continue to be isolated as required by the existing TSs. Therefore, the proposed change does not involve a significant reduction in safety margin.

The NRC staff has reviewed the licensee's analysis and, based on this review, it appears that the three standards of 10 CFR 50.92(c) are satisfied. Therefore, the NRC staff proposes to determine that the amendment request involves no significant hazards consideration.

Attorney for licensee: Kathryn B. Nolan, Deputy General Counsel, Duke Energy Corporation, 550 South Tryon Street, Mail Code DEC45A, Charlotte, NC 28202.

Entergy Operations, Inc., Docket No. 50-313, Arkansas Nuclear One, Unit 1 (ANO-1), Pope County, Arkansas

Date of amendment request: December 19, 2018. A publicly-available version is in ADAMS under Accession No. ML18353B044.

Description of amendment request: The amendment would revise the ANO-1 Technical Specifications (TSs) to adopt Technical Specifications Task Force (TSTF) Traveler TSTF-567, Revision 1, “Add Containment Sump TS to Address GSI [Generic Safety Issue]-191 Issues.”

Basis for proposed no significant hazards consideration determination: As required by 10 CFR 50.91(a), the licensee has provided its analysis of the issue of no significant hazards consideration, which is presented below:

1. Does the proposed amendment involve a significant increase in the probability or consequences of an accident previously evaluated?

Response: No.

The proposed change adds a new specification to the TS for the reactor building sump. An existing SR [surveillance requirement] on the reactor building sump is moved to the new specification and a duplicative requirement to perform the SR in TS 3.5.3 is removed. The new specification retains the existing requirements on the reactor building sump and the actions to be taken when the reactor building sump is inoperable with the exception of adding new actions to be taken when the reactor building sump is inoperable due to reactor building accident generated and transported debris exceeding the analyzed limits. The new action provides time to evaluate and correct the condition instead of requiring an immediate plant shutdown.

The reactor building sump is not an initiator of any accident previously evaluated. The reactor building sump is a passive component and the proposed change does not increase the likelihood of the malfunction. As a result, the probability of an accident is unaffected by the proposed change.

The reactor building sump is used to mitigate accidents previously evaluated by providing a borated water source for the Emergency Core Cooling System (ECCS) and Reactor Building Spray (RBS) System. The design of the reactor building sump and the capability of the reactor building sump assumed in the accident analysis is not changed. The proposed action requires implementation of mitigating actions while the reactor building sump is inoperable and more frequent monitoring of reactor coolant leakage to detect any increased potential for an accident that would require the reactor building sump. The consequences of an accident during the proposed action are no different than the current consequences of an accident if the reactor building sump is inoperable.

The proposed change clarifies the SFDP [Safety Function Determination Program] when a supported system is made inoperable by the inoperability of a single TS support system. The SFDP directs the appropriate use of TS actions and the proposed change does not alter the current intent of the TS. The actions taken when a system is inoperable are not an assumption in the initiation or mitigation of any previously evaluated accident.

Therefore, the proposed change does not involve a significant increase in the probability or consequences of an accident previously evaluated.

2. Does the proposed amendment create the possibility of a new or different kind of accident from any accident previously evaluated?

Response: No.

The proposed change adds a new specification to the TS for the reactor building sump. An existing SR on the reactor building sump is moved to the new specification and a duplicative requirement to perform the SR in TS 3.5.3 is removed. The new specification retains the existing requirements on the reactor building sump and the actions to be taken when the reactor building sump is inoperable with the exception of adding new actions to be taken when the reactor building sump is inoperable due to reactor building accident generated and transported debris exceeding the analyzed limits. The new action provides time to evaluate and correct the condition instead of requiring an immediate plant shutdown.

The proposed change does not alter the design or design function of the reactor building sump or the plant. No new systems are installed or removed as part of the proposed change. The reactor building sump is a passive component and cannot initiate a malfunction or accident. No new credible accident is created that is not encompassed by the existing accident analyses that assume the function of the reactor building sump.

The proposed change clarifies the SFDP when a supported system is made inoperable by the inoperability of a single TS support system. The SFDP directs the appropriate use of TS actions and the proposed change does not alter the current intent of the TS. The proposed change to the Safety Function Determination Program will not result in any change to the design or design function of the reactor building sump or a method of operation of the plant.

Therefore, the proposed change does not create the possibility of a new or different kind of accident from any accident previously evaluated.

3. Does the proposed amendment involve a significant reduction in a margin of safety?

Response: No.

The proposed change adds a new specification to the TS for the reactor building sump. An existing SR on the reactor building sump is moved to the new specification and a duplicative requirement to perform the SR in TS 3.5.3 is removed. The new specification retains the existing requirements on the reactor building sump and the actions to be taken when the reactor building sump is inoperable with the exception of adding new actions to be taken when the reactor building sump is inoperable due to reactor building accident generated and transported debris exceeding the analyzed limits. The new action provides time to evaluate and correct the condition instead of requiring an immediate plant shutdown.

The proposed change does not affect the controlling values of parameters used to avoid exceeding regulatory or licensing limits. No Safety Limits are affected by the proposed change. The proposed change does not affect any assumptions in the accident analyses that demonstrate compliance with regulatory and licensing requirements.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Anna Vinson Jones, Senior Counsel, Entergy Services, Inc., 101 Constitution Avenue NW, Suite 200 East, L-ENT-WDC, Washington, DC 20001.

NRC Branch Chief: Robert J. Pascarelli.

Susquehanna Nuclear, LLC, Docket Nos. 50-387 and 50-388, Susquehanna Steam Electric Station, Units 1 and 2, Luzerne County, Pennsylvania

Date of amendment request: January 9, 2019. A publicly-available version is in ADAMS under Accession No. ML19009A431.

Description of amendment request: The amendments would temporarily change Technical Specification (TS) TS 3.7.1, “Residual Heat Removal Service Water (RHRSW) System and the Ultimate Heat Sink (UHS),” and TS 3.7.2, “Emergency Service Water (ESW) System,” to allow one division of the ESW and RHRSW systems to be inoperable for a total of 14 days to address piping degradation. The amendments would also remove the Table of Contents (TOC) from the TSs and place it under licensee control.

Basis for proposed no significant hazards consideration determination: As required by 10 CFR 50.91(a), the licensee has provided its analysis of the issue of no significant hazards consideration, which is presented below:

1. Does the proposed change involve a significant increase in the probability or consequences of an accident previously evaluated?

Response: No.

The proposed change is to permit a temporary extension to existing TS Completion Times to allow for ESW system piping replacement. The division of the ESW and RHRSW systems that are not being worked on will remain fully OPERABLE during the 14 day Completion Time. Although it would not be able to be restored to a fully OPERABLE status, the impacted division of ESW and RHRSW will be capable of being restored to perform its safety function within the limiting 72 hour Completion Time. The ESW and RHRSW systems and their supported equipment function as accident mitigators. Removing one division from service for a limited period of time does not affect any accident initiator and, therefore, cannot change the probability of an accident. The proposed changes and the ESW repair evolution have been evaluated to assess their impact on the systems affected and ensure design basis safety functions are preserved. There is a slight increase in risk associated with having the ESW and RHRSW systems and their supported systems out of service for longer than currently allowed by the SSES [Susquehanna] TS. However, Susquehanna will maintain the non-impacted division of ESW and RHRSW fully OPERABLE throughout the repair evolution and will protect required equipment in accordance with its protected equipment program. The non-impacted division is capable of serving 100 percent of the heat loads for both the online and outage units during an accident. As such, there is no impact on consequence mitigation for any transient or accident.

Additionally, Susquehanna proposes an administrative change to remove the TOC from the TS and place it under licensee control. This has no impact on the design or operation of the plant and cannot impact the probability of an accident in any way.

Therefore, the proposed change does not involve a significant increase in the probability or consequences of an accident previously evaluated.

2. Does the proposed change create the possibility of a new or different kind of accident from any accident previously evaluated?

Response: No.

The proposed change is to permit a temporary extension to existing TS Completion Times to allow for ESW system piping replacement. The change does not involve a physical alteration of the plant (i.e., no different equipment will be installed) or a change in the methods governing normal plant operations. The proposed change does not alter assumptions made in the safety analysis. During the replacement evolution, one division of the ESW and RHRSW systems will not be capable of performing their safety function. However, the other division of ESW and RHRSW are capable of providing the necessary cooling in the event of an accident. Furthermore, the ability to perform the safety function for the impacted division can always be recovered within the existing TS Completion Times and the systems will be fully restored to OPERABLE status following the pipe replacement. The proposed change does not introduce new failure mechanisms, malfunctions, or accident initiators not considered in the design and licensing basis.

Additionally, Susquehanna proposes an administrative change to remove the TOC from the TS and place it under licensee control. This has no impact on the design or operation of the plant and cannot create a new or different kind of accident.

Therefore, the proposed change does not create the possibility of a new or different kind of accident from any accident previously evaluated.

3. Does the proposed change involve a significant reduction in a margin of safety?

Response: No.

The proposed change is to permit a temporary extension to existing TS Completion Times to allow for ESW system piping replacement. The proposed change does not alter the manner in which safety limits, limiting safety settings, or limiting conditions for operation are determined. The safety analysis assumptions and acceptance criteria are not affected by this change. The change will ultimately result in an increase in a margin of safety due to installation of the new piping.

Additionally, Susquehanna proposes an administrative change to remove the TOC from the TS and place it under licensee control. This has no impact on the design or operation of the plant and cannot impact any safety margins.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Damon D. Obie, Associate General Counsel, Talen Energy Supply, LLC, 835 Hamilton St., Suite 150, Allentown, PA 18101.

NRC Branch Chief: James G. Danna.

IV. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Indiana Michigan Power Company, Docket Nos. 50-315 and 50-316, Donald C. Cook Nuclear Plant, Unit Nos. 1 and 2, Berrien County, Michigan

Date of amendment request: September 5, 2018.

Brief description of amendments: The amendments revised the Donald C. Cook Nuclear Plant, Unit Nos. 1 and 2, Technical Specification 5.5.15, “Battery Monitoring and Maintenance Program,” to align with the latest Institute of Electrical and Electronics Engineers (IEEE) Standard (Std.) for maintenance and testing of the safety-related batteries. Specifically, the amendments replaced all the references of the IEEE Std. 450-1995, “IEEE Recommended Practice for Maintenance, Testing, and Replacement of Vented Lead-Acid Batteries for Stationary Applications,” with the updated IEEE Std. 450-2010, as endorsed, with certain regulatory positions, in Regulatory Guide 1.129, Revision 3, “Seismic Design Classification.”

Date of issuance: February 5, 2019.

Effective date: As of the date of issuance and shall be implemented within 90 days of issuance.

Amendment Nos.: 343 (Unit No. 1) and 325 (Unit No. 2). A publicly-available version is in ADAMS under Accession No. ML18346A358; documents related to these amendments are listed in the Safety Evaluation enclosed with the amendments.

Facility Operating License Nos. DPR-58 and DPR-74: The amendments revised the Renewed Facility Operating Licenses and Technical Specifications.

Date of initial notice in Federal Register: November 6, 2018 (83 FR 55574).

The Commission's related evaluation of the amendments is contained in a Safety Evaluation dated February 5, 2019.

No significant hazards consideration comments received: No.

Southern Nuclear Operating Company, Docket Nos. 52-025 and 52-026, Vogtle Electric Generating Plant, Units 3 and 4, Burke County, Georgia

Date of amendment request: July 20, 2018, as supplemented by letter dated December 3, 2018.

Brief description of amendments: The amendments consisted of changes to Combined License Appendix A, Technical Specifications (TSs), and revised operability requirements for the Engineered Safety Feature Actuation System Spent Fuel Pool Level—Low 2 and In-Containment Refueling Water Storage Tank Wide Range Level—Low instrumentation functions for Refueling Cavity and Spent Fuel Pool Cooling System (SFS) Isolation. Additional changes added TS operability requirements for the SFS containment isolation valves in MODES 5 and 6.

Date of issuance: January 15, 2019.

Effective date: As of the date of issuance and shall be implemented within 30 days of issuance.

Amendment Nos.: 150 (Unit 3) and 149 (Unit 4). A publicly-available version is in ADAMS under Package Accession No. ML18351A189; documents related to these amendments are listed in the Safety Evaluation enclosed with the amendments.

Facility Combined License Nos. NPF-91 and NPF-92: The amendments revised the facility Combined Licenses.

Date of initial notice in Federal Register: September 11, 2018 (83 FR 45986). The supplement dated December 3, 2018, provided additional information that clarified the application, did not expand the scope of the application as originally noticed, and did not change the NRC staff's original proposed no significant hazards consideration determination.

The Commission's related evaluation of the amendments is contained in a Safety Evaluation dated January 15, 2019.

No significant hazards consideration comments received: No.

Southern Nuclear Operating Company, Docket Nos. 52-025 and 52-026, Vogtle Electric Generating Plant, Units 3 and 4, Burke County, Georgia

Date of amendment request: August 10, 2018.

Brief description of amendments: The amendments consisted of changes to Combined License Appendix A, Technical Specifications (TSs), and revised TS Limiting Condition for Operation (LCO) 3.1.8, “Physics Tests Exception—Mode 2,” to include Function 4 as one of the LCO 3.3.1, “Reactor Trip System (RTS) Instrumentation,” functions where the number of required channels may be reduced to three during the performance of physics tests. Additionally, LCO 3.8.3, “Inverters—Operating,” was revised to make an editorial nomenclature change from “constant voltage source transformer” to “voltage regulating transformer.”

Date of issuance: January 30, 2019.

Effective date: As of the date of issuance and shall be implemented within 30 days of issuance.

Amendment Nos.: 153 (Unit 3) and 152 (Unit 4). A publicly-available version is in ADAMS under Package Accession No. ML18354B207; documents related to these amendments are listed in the Safety Evaluation enclosed with the amendments.

Facility Combined Licenses Nos. NPF-91 and NPF-92: The amendments revised the facility Combined Licenses.

Date of initial notice in Federal Register: September 25, 2018 (83 FR 48467).

The Commission's related evaluation of the amendments is contained in a Safety Evaluation dated January 30, 2019.

No significant hazards consideration comments received: No.

Tennessee Valley Authority, Docket Nos. 50-390 and 50-391, Watts Bar Nuclear Plant, Units 1 and 2 (Watts Bar), Rhea County, Tennessee

Date of amendment request: January 5, 2018.

Brief description of amendments: The amendments revised Technical Specification (TS) 3.6.3, “Containment Isolation Valves,” and Surveillance Requirement 3.6.3.5 to change the frequency in accordance with the Watts Bar Containment Leakage Rate Testing Program, which is described in TS 5.7.2.19. The changes allow leak rate testing of the containment purge system containment isolation valves to be performed at least once every 30 months, as prescribed in Regulatory Guide 1.163, “Performance-Based Containment Leak-Test Program.”

Date of issuance: January 28, 2019.

Effective date: As of the date of issuance and shall be implemented within 30 days of issuance.

Amendment Nos.: 123 (Unit 1) and 24 (Unit 2). A publicly-available version is in ADAMS under Accession No. ML18327A005; documents related to these amendments are listed in the Safety Evaluation enclosed with the amendments.

Facility Operating License Nos. NPF-90 and NPF-96: The amendments revised the Facility Operating Licenses and TSs.

Date of initial notice in Federal Register: March 13, 2018 (83 FR 10924).

The Commission's related evaluation of the amendments is contained in a Safety Evaluation dated January 28, 2019.

No significant hazards consideration comments received: No.

V. Notice of Issuance of Amendments to Facility Operating Licenses and Combined Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR chapter I, which are set forth in the license amendment.

Because of exigent or emergency circumstances associated with the date the amendment was needed, there was not time for the Commission to publish, for public comment before issuance, its usual notice of consideration of issuance of amendment, proposed no significant hazards consideration determination, and opportunity for a hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) The application for amendment, (2) the amendment to Facility Operating License or Combined License, as applicable, and (3) the Commission's related letter, Safety Evaluation and/or Environmental Assessment, as indicated. All of these items can be accessed as described in the “Obtaining Information and Submitting Comments” section of this document.

Northern States Power Company—Minnesota, Docket No. 50-306, Prairie Island Nuclear Generating Plant, Unit 2, Goodhue County, Minnesota

Date of amendment request: January 29, 2019.

Description of amendment: The amendment revised Technical Specification 3.8.1, Condition E, to allow a one-time extension to the completion time for two diesel generators out of service.

Date of issuance: January 29, 2019.

Effective date: January 29, 2019.

Amendment No: 213. A publicly-available version is in ADAMS under Accession No. ML19029A094; documents related to this amendment are listed in the Safety Evaluation enclosed with the amendment.

Renewed Facility Operating License No. DPR-60: The amendment revised the Renewed Facility Operating License and Technical Specifications.

Public comments requested as to proposed no significant hazards consideration: No.

The Commission's related evaluation of the amendment, finding of emergency circumstances, State consultation, and final no significant hazards consideration determination are contained in a Safety Evaluation dated January 29, 2019.

Attorney for licensee: Peter M. Glass, Assistant General Counsel, Xcel Energy Services, Inc., 414 Nicollet Mall, Minneapolis, MN 55401.

NRC Branch Chief: David J. Wrona.

Dated at Rockville, Maryland, this 15th day of February, 2019.
For the Nuclear Regulatory Commission.
Craig G. Erlanger,
Director, Division of Operating Reactor Licensing, Office of Nuclear Reactor Regulation.

[FR Doc. 2019-02934 Filed 2-25-19; 8:45 am]

BILLING CODE 7590-01-P